DEPARTMENT OF AGRICULTURE

Agricultural Marketing Service

[Document Number AMS—FV-09-0028, FV-09-327]

United States Standards for Grades of Frozen Vegetables

AGENCY: Agricultural Marketing Service, USDA.

ACTION: Notice.

SUMMARY: The Agricultural Marketing Service (AMS), prior to undertaking research and other work associated with revising official grade standards, is soliciting comments on the possible revisions to eighteen U.S. grade standards for frozen vegetables issued on or before July 22, 1985. AMS annually reviews its processed fruit and vegetable grade standards for suitability and has identified eighteen grade standards for frozen vegetables for possible revision.

AMS is considering replacing the two term system with a single term to describe each quality level for the grade standards identified in this notice. The term using the letter grade would be retained, and the descriptive term would be eliminated. For example, grade standards using the term “U.S. Grade A” or “U.S. Fancy” would be revised to use the single term “U.S. Grade A” and the terms “U.S. Grade B” or “U.S. Extra Standard” would be revised to use the single term “U.S. Grade B.” In addition miscellaneous changes would be made to update a number of references to licensed supplier addresses and incorporate updated terminology that reflects current marketing practices.

AMS is seeking comments regarding these changes as well as any other possible revisions that may be necessary to better serve the industry.

DATES: Comments must be received by September 21, 2010.

ADDRESSES: Interested persons are invited to submit written comments on the Internet at http://www.regulations.gov or to Lydia E. Berry, Inspection and Standardization Section, Processed Products Branch, Fruit and Vegetable Programs, Agricultural Marketing Service, U.S. Department of Agriculture, 1400 Independence Ave., SW., Room 0709 South Building, STOP 0247, Washington, DC 20250-0247; phone: (202) 720-5021; fax: (202) 690-1527. Comments should make reference to the date and page number of this issue of the Federal Register and will be made available for public inspection at the above office during regular business hours. Please be advised that all comments submitted in response to this notice will be included in the record and will be made available to the public on the Internet via http://www.regulations.gov. Also, the identity of the individuals or entities submitting the comments will be made public. The U.S. grade standards for frozen vegetables identified in this notice are available either at the above address or by accessing the AMS Web site at: http://www.ams.usda.gov/processedinspection.

FOR FURTHER INFORMATION CONTACT: Lydia E. Berry, at the above address, by phone at 202-720-5021, or by e-mail Lydia.berry@ams.usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. The U.S. standards for frozen vegetables not connected with Federal marketing orders or U.S. import requirements no longer appear in the Code of Federal Regulations, but are maintained by AMS and are available on the Internet at http://www.ams.usda.gov/processedinspection.

AMS is considering revisions to these voluntary U.S. grade standards using procedures that appear in part 36, title 7 of the Code of Federal Regulations (7 CFR part 36).

Background

AMS periodically reviews the processed fruit and vegetable grade standards for usefulness in serving the industry. AMS has identified eighteen grade standards covering various frozen vegetables for possible revision. Prior to undertaking detailed work developing the proposed revisions to these grade standards, AMS is soliciting comments on the possible changes and any other comments regarding these grade standards to better serve the industry.

More recently developed grade standards use a single term, such as “U.S. Grade A” or “U.S. Grade B” to describe each level of quality within a grade standard. Older standards used a dual system, such as “U.S. Grade A” and “U.S. Fancy” to describe the same level of quality within a grade standard.

For the grade standards in the table below, AMS is requesting comments on replacing the two term system of naming levels of quality with single letter grade designations. The terms “U.S. Fancy”, “U.S. Extra Standard”, and “U.S. Standard” would be removed and the terms “U.S. Grade A,” “U.S. Grade B,” and “U.S. Grade C,” would be used exclusively. These changes would conform to recent changes in other grade standards. AMS is also proposing editorial changes to these grade standards, providing updated addresses to obtain copies of the grade standards, and to remove specific addresses for licensed suppliers of color standards and inspection aids, and incorporate updated terminology that reflects current marketing practices. Contact information for current licensed suppliers is available on the Internet on the PPB Web site at: http://www.ams.usda.gov/processedinspection. These revisions will provide a format consistent with recent revisions of other grade standards. The following table summarizes the changes currently under consideration by AMS.

U.S. standards for grades of frozen | Effective date | Change level of quality designation to single term | Other revisions proposed
Asparagus | June 30, 1974 | Yes | Update address for standards.
Lima Beans | May 22, 1957 | Yes | Update address for standards.
|  |  | Remove address for color standard and inspection aid licensed supplier.
Speckled Butter (Lima) Beans | July 21, 1962 | Yes | Update address for standards.
Carrots | February 28, 1974 | Yes | Update address for standards.
|  |  | Update terminology.
Corn, Whole Kernel | August 1, 1952 | Yes | Update address for standards.
|  |  | Update terminology.
Corn on the Cob | July 27, 1970 | Yes | Update address for standards.
|  |  | Update terminology.
Onion Rings, Breaded | October 17, 1959 | Yes | Update address for standards.
|  |  | Update terminology.
Peas | May 28, 1959 | Yes | Update address for standards.
|  |  | Update terminology.
Peas and Carrots | March 20, 1955 | Yes | Update address for standards.
Peppers, Sweet | March 13, 1959 | Yes | Update address for standards.
|  |  | Update terminology.
Potatoes, French Fried | February 8, 1967 | Yes | Update address for standards.
|  |  | Remove address for color standard and inspection aid licensed supplier.
|  |  | Update terminology.
Squash (Cooked) | October 15, 1953 | Yes | Update address for standards.
Squash (Summer) | April 3, 1953 | Yes | Update address for standards.
Succotash | March 6, 1959 | Yes | Update address for standards.
|  |  | Update terminology.
Sweet Potatoes | September 4, 1962 | Yes | Update address for standards.
Tomato Juice, Tomato Juice from Concentrate | July 22, 1985 | No—Single terms currently used | Update address for standards. Remove address for color standard and inspection aid licensed supplier.
Turnip Greens with Turnips | August 15, 1958 | Yes | Update address for standards.
Vegetables, Mixed | May 24, 1954 | Yes | Update address for standards.

This notice provides for a 60-day period for interested parties to comment on the changes under consideration by AMS as well as any additional changes to the standards. Should AMS conclude that there is a need for any revisions of the grade standards; the proposed revisions will be published in the Federal Register with a request for comments in accordance with 7 CFR part 36.

Authority: 7 U.S.C. 1621-1627.

Dated: July 20, 2010.
Rayne Pegg,
Administrator, Agricultural Marketing Service.

[FR Doc. 2010-18085 Filed 7-22-10; 8:45 am]

BILLING CODE 3410-02-P